DEPARTMENT OF ENERGY

Federal Energy Regulatory Commission

[Docket Nos. IC09-500-001 and IC09-505-001]

Commission Information Collection Activities (FERC-500 and FERC-505); Comment Request; Submitted for OMB Review

August 24, 2009.

AGENCY: Federal Energy Regulatory Commission.

ACTION: Notice.

SUMMARY: In compliance with the requirements of section 3507 of the Paperwork Reduction Act of 1995, 44 U.S.C. 3507, the Federal Energy Regulatory Commission (Commission or FERC) has submitted the information collections described below to the Office of Management and Budget (OMB) for review of the information collection requirements. Any interested person may file comments directly with OMB and should address a copy of those comments to the Commission as explained below. The Commission received no comments in response to the Federal Register notice (74 FR 16377, 4/10/2009) and has made this notation in its submissions to OMB.

DATES: Comments on the collections of information are due by September 30, 2009.

ADDRESSES: Address comments on the collections of information to the Office of Management and Budget, Office of Information and Regulatory Affairs, Attention: Federal Energy Regulatory Commission Desk Officer. Comments to OMB should be filed electronically, c/o oira__submission@omb.eop.gov and include OMB Control Numbers 1902-0058 (for FERC-500) and 1902-0115 (for FERC-505) as points of reference. For comments that pertain to only one of the collections, specify the appropriate collection. The Desk Officer may be reached by telephone at 202-395-4638.

A copy of the comments should also be sent to the Federal Energy Regulatory Commission and should refer to Docket Nos. IC09-500-001 and IC09-505-001. Comments may be filed either electronically or in paper format. Those persons filing electronically do not need to make a paper filing. Documents filed electronically via the Internet must be prepared in an acceptable filing format and in compliance with the Federal Energy Regulatory Commission submission guidelines. Complete filing instructions and acceptable filing formats are available at http://www.ferc.gov/help/submission-guide/user-guide.pdf. To file the document electronically, access the Commission's Web site and click on Documents & Filing, E-Filing (http://www.ferc.gov/docs-filing/efiling.asp), and then follow the instructions for each screen. First time users will have to establish a user name and password. The Commission will send an automatic acknowledgement to the sender's e-mail address upon receipt of comments.

For paper filings, an original and 2 copies of the comments should be submitted to the Federal Energy Regulatory Commission, Secretary of the Commission, 888 First Street, NE., Washington, DC 20426, and should refer to Docket Nos. IC09-500-001 and IC09-505-001.

All comments may be viewed, printed or downloaded remotely via the Internet through FERC's homepage using the “eLibrary” link. For user assistance, contact fercolinesupport@ferc.gov or toll-free at (866) 208-3676 or for TTY, contact (202) 502-8659.

FOR FURTHER INFORMATION CONTACT: Ellen Brown may be reached by telephone at (202) 502-8663, by fax at (202) 273-0873, and by e-mail at ellen.brown@ferc.gov.

SUPPLEMENTARY INFORMATION: For the purpose of publishing this notice and seeking public comment, FERC requests comments on both FERC-500 (“Application for License/Relicense for Water Projects with Capacity Greater than 5 MW”; OMB Control No. 1902-0058) and FERC-505 (“Application for License/Relicense for Water Projects with Capacity 5 MW or Less”; OMB Control No. 1902-0115). The associated regulations, reporting requirements, burdens, and OMB clearance numbers will continue to remain separate and distinct for FERC-500 and FERC-505.

FERC-500: The information collected under the requirements of FERC-500 is used by the Commission to determine the broad impact of a hydropower project (including hydrokinetic projects) license application. In deciding whether to issue a license, the Commission gives equal consideration to a full range of licensing purposes related to the potential value of a stream, river, or other navigable waterway including the oceans. Among these purposes are: hydroelectric or hydrokinetic development; energy conservation; fish and wildlife resources (including their spawning grounds and habitat); visual resources; cultural resources; recreational opportunities; other aspects of environmental quality; irrigation; flood control and water supply. Submittal of the information is necessary to fulfill the requirements of the Federal Power Act in order for the Commission to determine whether the proposal is best adapted to a comprehensive plan for improving or developing a waterway(s).

Under Part I of the Federal Power Act (FPA; 16 U.S.C. 791a et seq.), the Commission has the authority to issue licenses for hydroelectric projects on the waters over which Congress has jurisdiction. The Electric Consumers Protection Act (ECPA; Pub. L. 99-495, 100 Stat. 1243) provides the Commission with the responsibility of issuing licenses for nonfederal hydroelectric plants. ECPA also amended the language of the FPA concerning environmental issues to ensure environmental quality. In Order No. 2002 (68 FR 51070, August 25, 2003), the Commission revised its regulations to create a new licensing process in which a potential license applicant's pre-filing consultation and the Commission's scoping process pursuant to the National Environmental Policy Act (NEPA; 42 U.S.C. 4321) are conducted concurrently rather than sequentially.

The information collected is needed: (1) To evaluate license applications pursuant to the comprehensive development standard of FPA sections 4(e) and 10(a)(1), (2) to consider the comprehensive development analysis of certain factors with respect to the new license set forth in section 15, and (3) to comply with NEPA, Endangered Species Act (16 U.S.C. 1531 et seq.) and the National Historic Preservation Act (16 U.S.C. 470 et seq.). FERC staff conducts a systematic review of the application, with supplemental documentation provided through the solicitation of comments from other agencies and the public.

Submittal of the FERC-500 information is necessary for the Commission to carry out its Statutory responsibilities as defined in the filing requirements in 18 CFR 4.32, 4.38, 4.40-41, 4.50-51, 4.61, 4.71, 4.93, 4.107-108, 4.201-.202, Part 5, 16.1, 16.10, 16.20, 292.203 and 292.208.

FERC-505: Submission of the information is necessary for the Commission to carry out its responsibilities in implementing the statutory provisions of Part I of the FPA (16 U.S.C. 791a et seq. & 3301-3432, as amended by the ECPA (Pub. L. 99-495, 100 Stat. 1234 (1986)). The FPA as amended by ECPA provides the Commission with the responsibility of issuing licenses for nonfederal hydroelectric power plants, plus requiring the Commission in its licensing activities to give equal consideration to preserving environmental quality. ECPA also amended sections 10(a) and 10(j) of the FPA to specify the conditions on which hydropower licenses are issued, to direct that the project be adopted in accordance with a comprehensive plan that improves waterways for interstate/foreign commerce and for the protection, enhancement and mitigation of damages to fish and wildlife.

Submittal of the information is necessary to fulfill the requirements of Sections 9 and 10(a) of the Act in order for the Commission to make the required finding that the proposal is technically and environmentally sound, and is best adapted to a comprehensive plan for the development of the water resources of the region. Under section 405(c) of the Public Utility Regulatory Policies Act of 1978 (PURPA), the Commission may in its discretion (by rule or order) grant an exemption in whole or in part from the requirements of Part I of the FPA to small hydroelectric power projects having a proposed installed capacity of 5,000 kilowatts or less (5-MW exemption). The filing requirements to prepare an application for a 5-MW exemption in lieu of a licensing application are also included in this analysis. The information collected under FERC-505 is used by Commission staff to determine the broad impact of a license (including licenses for hydrokinetic projects) or exemption application.

The information collected for license applications is needed to evaluate the hydroelectric project pursuant to the comprehensive development standard of FPA sections 4(e) and 10(a)(1), to consider in the comprehensive development analysis certain factors with respect to the new license as set forth in section 15, and to comply with NEPA, the Endangered Species Act (16 U.S.C. 1531 et seq.) and the National Historic Preservation Act (16 U.S.C. 470 et seq.). The information collected for 5-MW exemption applications is needed to evaluate the hydroelectric project for compliance with NEPA, the Endangered Species Act (16 U.S.C. 1531 et seq.), and the National Historic Preservation Act (16 U.S.C. 470 et seq.). FERC staff conducts a systematic review of the prepared application with supplemental documentation provided by the solicitation of comments from other agencies and the public.

The filing requirements are contained in 18 CFR 4.61, 4.71, 4.93, 4.107, 4.108, 4.201, 4.202, Part 5, 292.203, and 292.208.

ACTION: The Commission is requesting three-year extensions of the current expiration dates for FERC-500 and FERC-505, with no change to the existing reporting requirements.

Burden Statement: The estimated annual public reporting burdens and the associated public costs follow.¹

¹ These figures may not be exact, due to rounding.

Data collection ² ³ | Projected number of respondents | Number of responses per respondent | Projected average burden hours per response | Total annual burden hours
Annual Estimate for FERC-500 | 6 | 1 | 105,839.5 | 635,037
Annual Estimate for FERC-505 | 16 | 1 | 3,674 | 58,782
² Per sections 4.41(e)(9), 4.51(e)(7) and 4.61(c)(3), applicants are now required to submit their total cost of collection; these figures were used in determining the average burden hours. The information presented here is based on actual Fiscal Year (FY) 2007 and FY 2008 filings.
³ The Commission has three licensing processes; each process has its own requirements and schedules. More details are available at http://www.ferc.gov/industries/hydropower/gen-info/licensing/licen-pro.asp.

Using actual cost figures provided by filers ², the average annual cost per respondent is estimated as follows.

Data collection | Number of filers providing actual cost figures | Total annual cost of collection, for the filers providing data in column 2 ($) ² | Projected average annual cost per respondent ($)
(1) | (2) | (3) | (3)/(2)
FERC-500 | 17 | $109,331,372 | $6,431,257
FERC-505 | 14 | 3,123,000 | 223,071

The reporting burden ² includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents ² is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collections of information are necessary for the proper performance of the functions of the Commission, including whether the information will have practical utility; (2) the accuracy of the agency's estimates of the burden of the proposed collections of information, including the validity of the methodology and assumptions used; (3) ways to enhance the quality, utility and clarity of the information to be collected; and (4) ways to minimize the burden of the collections of information on those who are to respond, including the use of appropriate automated, electronic, mechanical, or other technological collection techniques or other forms of information technology, e.g., permitting electronic submission of responses.

Kimberly D. Bose,
Secretary.

[FR Doc. E9-20850 Filed 8-28-09; 8:45 am]

BILLING CODE 6717-01-P